FEDERAL RETIREMENT THRIFT INVESTMENT BOARD

Employee Thrift Advisory Council

Time and Date: 10 a.m. (EST) February 4, 2009.

Place: 4th Floor, Conference Room, 1250 H Street, NW., Washington, DC.

Status: Open.

Matters To Be Considered:

1. Approval of the minutes of the June 30, 2008 ETAC meeting.

2. Thrift Savings Plan activity report by the Executive Director.

3. Potential Legislative items:

a. Automatic enrollment.

b. L Fund default.

c. Roth feature.

d. Mutual fund window.

e. Immediate employer contributions.

f. Surviving spouse accounts.

g. Administrative subpoena authority.

4. RMD suspension for 2009.

5. 2008 TSP Participant Survey results.

6. Agency review of the latest REIT industry proposal.

7. L Fund allocations.

8. New Business.

Contact Person for More Information: Thomas K. Emswiler, Committee Management Officer, (202) 942-1660.

Dated: January 16, 2009.
Thomas K. Emswiler,
General Counsel, Federal Retirement Thrift Investment Board.

[FR Doc. E9-1557 Filed 1-21-09; 4:15 pm]

BILLING CODE 6760-01-P